DEPARTMENT OF JUSTICE

Parole Commission

Sunshine Act Meeting

Record Of Vote Of Meeting Closure (Pub. L. 94-409) (5 U.S.C. Sec. 552b)

I, Cranston Mitchell, of the United States Parole Commission, was present at a meeting of said Commission, which started at approximately 11:00 a.m., on Thursday, April 17, 2014 at the U.S. Parole Commission, 90 K Street NE., Third Floor, Washington, DC 20530. The purpose of the meeting was to discuss original jurisdiction cases pursuant to 28 CFR Section 2.27. Five Commissioners were present, constituting a quorum when the vote to close the meeting was submitted.

Public announcement further describing the subject matter of the meeting and certifications of the General Counsel that this meeting may be closed by votes of the Commissioners present were submitted to the Commissioners prior to the conduct of any other business. Upon motion duly made, seconded, and carried, the following Commissioners voted that the meeting be closed: Cranston J. Mitchell, Patricia K. Cushwa, J. Patricia Wilson Smoot and Charles T. Massarone.

In witness whereof, I make this official record of the vote taken to close this meeting and authorize this record to be made available to the public.

Dated: April 24, 2014.
Cranston J. Mitchell,
Vice Chairman, U.S. Parole Commission.

[FR Doc. 2014-09776 Filed 4-25-14; 4:15 pm]

BILLING CODE 4410-31-P